CONSUMER PRODUCT SAFETY COMMISSION

Sunshine Act Meeting

Time and Date: Friday, November 8, 2002, 10 a.m.

Location: Room 420, East West Towers, 4330 East West Highway, Bethesda, Maryland.

(This meeting was previously scheduled for Thursday, October 24, 2002.)

Status: Open to the public.

Matter To Be Considered:

Petition HP 99 1 Polyvinyl Chloride (PVC).

The staff will brief the Commission on Petition HP 99-1 requesting a ban of polyvinyl chloride (PVC) in all toys and other products intended for children five of age and under.

For a recorded message containing the latest agenda information, call (301) 504-0709.

CONTACT PERSON FOR ADDITIONAL INFORMATION: Todd A. Stevenson, Office of the Secretary, 4330 East West Highway, Bethesda, MD 20207 (301) 504-0800.

Dated: October 30, 2002.
Todd A. Stevenson,
Secretary.

[FR Doc. 02-27984 Filed 10-30-02; 11:20 am]

BILLING CODE 6355-01-M